NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 22, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. e-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-6, 3 items, 3 temporary items). Records relating to the Military Assistance to Safety and Traffic program. Included are such records as reports relating to missions flown, operational plans, letters of agreement, and survey and audit information. Also included are electronic copies of documents created using electronic mail and word processing. This schedule authorizes the agency to apply the proposed disposition instructions to any recordkeeping medium.

2. Department of Health and Human Services, Centers for Medicare and Medicaid Services (N1-440-01-2, 19 items, 17 temporary items). Records relating to the standardization of medical procedure codes used in billing Medicare for medical supplies and services. Included are such records as meeting and request files, electronic and paper records relating to codes, a web version of the annual summary, and electronic copies of records created using electronic mail and word processing. Electronic versions of annual data summaries and the supporting documentation are proposed for permanent retention.

3. Department of Justice, Drug Enforcement Administration (N1-170-03-2, 4 items, 3 temporary items). Electronic and paper feeder reports pertaining to weekly teletype reports sent by the Administrator to the Attorney General and agency staff summarizing significant activities and items of interest. Also included are electronic copies of records created using electronic mail and word processing. Finalized summaries maintained electronically at headquarters are proposed for permanent retention.

4. Department of Labor, Bureau of Labor Statistics (N1-257-03-1, 8 items, 7 temporary items). Survey instruments, intermediate reports, copies of publications, electronic data files of survey responses, and administrative records relating to special, one-time surveys conducted by the Office of Occupational Safety and Health Statistics. Also included are electronic copies of records created using electronic mail and word processing. Proposed for permanent retention are recordkeeping copies of survey publications.

5. Department of Transportation, Federal Aviation Administration (N1-237-02-1, 3 items, 3 temporary items). Inputs, system documentation, and master files of the Substance Abuse Tracking System, which contains information about agency employees who have violated policy concerning substance abuse.

6. Department of Transportation, Federal Aviation Administration (N1-237-02-2, 2 items, 2 temporary items). Investigative case files relating to aircraft parts suspected of not meeting regulatory requirements. Also included are electronic copies of documents created using electronic mail and word processing.

7. Department of the Treasury, Office of the Treasurer (N1-56-03-5, 8 items, 7 temporary items). Correspondence, calendars, invitations, trip files, and subject files. Also included are electronic copies of records created using electronic mail and word processing. Proposed for permanent retention are recordkeeping copies of speeches, testimonies, and public appearance comments made by the Treasurer.

8. Department of the Treasury, Community Development Financial Institution (N1-56-03-2, 43 items, 36 temporary items). Records relating to the administration of the Community Development Financial Institutions Fund, including such records as application files, agreements, certification files, event and outreach files, meeting notes, working files, and other administrative materials. Also included are electronic copies of records created using electronic mail and word processing. Proposed for permanent retention are recordkeeping copies of program presentations, policy formulation files, and planning records relating to expanding financial services to Native American communities.

9. Department of the Treasury, Bureau of the Public Debt (N1-53-03-4, 2 items, 2 temporary items). Auction and Issue Folders, which include paper and electronic versions of auction bid forms, Treasury Direct system reports, and allotment wires.

10. Environmental Protection Agency, Office of Prevention, Pesticides, and Toxic Substances (N1-412-02-04, 2 items, 2 temporary items). Records relating to unregistered pesticides, including such records as Foreign Purchaser Acknowledgement Statements, annual summaries from exporters, and export notice logs. Electronic copies of documents created using electronic mail and word processing are also included.

11. Environmental Protection Agency, Office of Administration and Resources Management (N1-412-03-8, 3 items, 3 temporary items). Grant and other agreement oversight records. Included are such records as correspondence, reports, policies and procedures, and other records relating to the oversight of grants and other assistance agreements for site-specific Superfund and non-Superfund programs. Electronic copies of records created using electronic mail and word processing are also included.

12. Environmental Protection Agency, Office of International Affairs (N1-412-03-10, 2 items, 2 temporary items). International travel records including such records as lists of trips and reports relating to the purpose and accomplishments of international trips. Also included are electronic copies of records created using electronic mail and word processing.

13. Peace Corps, Office of the General Counsel (N1-490-03-1, 12 items, 8 temporary items). Records relating to legislation, litigation, monetary claims, safety and security incidents, and other legal matters, including electronic copies of records created using word processing and electronic mail. Proposed for permanent retention are recordkeeping copies of files relating to legislation, regulatory matters, and policies and procedures as well as selected litigation case files.

14. Small Business Administration, Office of Government Contracting (N1-309-03-02, 7 items, 7 temporary items). Inputs, outputs, master files, system documentation, and system backups of the Certification of Competency Automated Computer System, which relates to the certification of small businesses as competent for Federal contracts. Included are electronic copies of documents created using electronic mail and word processing.

15. Small Business Administration, Office of Entrepreneurial Development (N1-309-03-06, 8 items, 8 temporary items). Inputs, outputs, master files, system documentation, and system backups of the Entrepreneurial Development Management Information System, which tracks technical assistance provided by the agency to small business clients. Included are electronic copies of documents created using electronic mail and word processing.

Dated: March 28, 2003.
Michael J. Kurtz,
Assistant Archivist for Record Services—Washington, DC.

[FR Doc. 03-8301 Filed 4-4-03; 8:45 am]

BILLING CODE 7515-01-P